DEPARTMENT OF HEALTH AND HUMAN SERVICES

National Institutes of Health

Office of the Director, National Institutes of Health; Office of Biotechnology Activities; Recombinant DNA Research; Notice of a Meeting of an NIH Blue Ribbon Panel

There will be a meeting of the NIH Blue Ribbon Panel to advise on the Risk Assessment of the National Emerging Infectious Diseases Laboratories (NEIDL) at the Boston Medical Center. The meeting will be held on Friday, May 2, 2008, at the National Institutes of Health, Building 31, Floor 6C, Conference Room 10, 31 Center Drive, Bethesda, Maryland 20892, from 8:30 a.m. to approximately 11:30 a.m.

The National Research Council Committee that provided technical input on the NIH's Draft Supplementary Risk Assessments and Site Suitability Analyses for the NEIDL will participate in discussions with Panel members regarding the scope and design of additional studies that may be needed to assess risk associated with the siting and operation of the NEIDL.

For further information concerning this meeting contact Ms. Laurie Lewallen, Advisory Committee Coordinator, Office of Biotechnology Activities, Office of the Director, National Institutes of Health, 6705 Rockledge Drive, Room 750, Bethesda, MD 20892-7985, 301-496-9838, lewallla@od.nih.gov.

The meeting will be open to the public, with attendance limited to space available. Individuals who plan to attend and need special assistance, such as sign language interpretation or other reasonable accommodations, should notify the Contact Person listed above in advance of the meeting. Any interested person may file written comments with the panel by forwarding the statement to the Contact Person listed on this notice. The statement should include the name, address, telephone number and when applicable, the business or professional affiliation of the interested person.

NIH campus security procedures require that all visitor vehicles, including taxicabs and hotel and airport shuttles will be inspected before being allowed on campus. Visitors will be asked to show one form of identification (for example, a government-issued photo ID, driver's license, or passport) and to state the purpose of their visit.

An agenda and any additional information for the meeting will be posted on the agency's Web site: http://www.nih.gov/about/director/acd/index.htm.

Background information may be obtained by contacting NIH OBA by e-mail oba@od.nih.gov.

Dated: April 14, 2008.
Amy P. Patterson,
Director, Office of Biotechnology Activities.

[FR Doc. E8-8474 Filed 4-18-08; 8:45 am]

BILLING CODE 4140-01-P